DEPARTMENT OF THE INTERIOR

National Park Service

[NPS-WASO-NAGPRA-NPS0034983; PPWOCRADN0-PCU00RP14.R50000]

Notice of Intent To Repatriate Cultural Items: New York State Museum, Albany, NY

AGENCY: National Park Service, Interior.

ACTION: Notice.

SUMMARY: In accordance with the Native American Graves Protection and Repatriation Act (NAGPRA), the New York State Museum (NYSM), intends to repatriate certain cultural items that meet the definition of unassociated funerary objects and that have a cultural affiliation with the Indian Tribes or Native Hawaiian organizations in this notice. The cultural items were removed from Albany, Greene, Rensselaer, Saratoga, and Washington Counties, NY.

DATES: Repatriation of the cultural items in this notice may occur on or after January 9, 2023.

ADDRESSES: Lisa Anderson, New York State Museum, 3049 Cultural Education Center, Albany, NY 12230, telephone (518) 486-2020, email lisa.anderson@nysed.gov.

SUPPLEMENTARY INFORMATION: This notice is published as part of the National Park Service's administrative responsibilities under NAGPRA. The determinations in this notice are the sole responsibility of the NYSM. The National Park Service is not responsible for the determinations in this notice. Additional information on the determinations in this notice, including the results of consultation, can be found in the summary or related records held by the NYSM.

Description

In 1967, Dr. Robert E. Funk of the NYSM removed 18 unassociated funerary objects from several Native American graves eroding from the bank of the Hudson River at the Goes site in Cedar Hill, Albany County, NY. The 18 unassociated funerary objects are six pottery sherds, one chert knife, and 11 chert flakes. Archeological evidence indicates long-term use of the Goes site from the Late Archaic to Contact periods. The unassociated funerary objects suggest the graves date to the Late Woodland period.

Around 1899, Dr. A.H. Getty removed 313 unassociated funerary objects from a Native American grave at the Saunders Farm site near Athens, in Greene County, NY, after it was exposed by mining for molding sand. Getty later gave the items to the Reverend W.N.P. Dailey, who in turn donated them to the NYSM in 1904. The 313 unassociated funerary objects are 295 copper beads, 17 shell beads, and one stone gorget. The type of unassociated funerary objects from the Saunders Farm site suggests the grave dates to the Early Woodland period.

In 1963, Dr. Robert E. Funk of the NYSM removed two unassociated funerary objects from the Tufano site in Greene County, NY. The two unassociated funerary objects are one pottery sherd and one chipped stone tool. Archeological evidence indicates the Tufano site dates to the late Middle Woodland period.

In 1956, Mr. Carl S. Sundler removed 21 unassociated funerary objects from a Native American grave at the Van Orden site in Greene County, NY, after the site was disturbed by construction. Sundler donated the items to the NYSM in 1974 as part of a larger collection. The 21 unassociated funerary objects are four projectile points, four chert tools, one fragment of animal bone, seven pottery sherds, two charcoal samples, two mineral samples, and one shell fragment. Archeological evidence indicates the Van Orden site dates to the Early-to-Middle Woodland period.

In 1986, Dr. Robert E. Funk of the NYSM removed eight unassociated funerary objects from a Native American grave eroding from the bank of the Hoosic River at the Knickerbocker site in Rensselaer County, NY. The eight unassociated funerary objects are two pottery rim sherds, five chert flakes, and one charcoal sample. The type of unassociated funerary objects from the Knickerbocker site suggests the grave dates to the Late Woodland period.

In 1976, the NYSM acquired one unassociated funerary object from Mr. J.W. Bouchard, who recovered it from a Native American grave at the Reynolds site in Saratoga County, NY, after it had eroded from the bank of Fish Creek. The one unassociated funerary object is a perforated brass thimble that dates to the mid-17th century.

In 1965, Drs. Robert E. Funk and William A. Ritchie of the NYSM removed one unassociated funerary object from the Barton site in Washington County, NY, after the site was disturbed by construction. The one unassociated funerary object is a sample of red ocher. Archeological evidence suggests the Barton site dates to the Early Woodland period.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: archeological, geographical, and linguistic.

Determinations

Pursuant to NAGPRA and its implementing regulations, and after consultation with the appropriate Indian Tribes and Native Hawaiian organizations, the NYSM has determined that:

• The 364 cultural items described above are reasonably believed to have been placed with or near individual human remains at the time of death or later as part of the death rite or ceremony and are believed, by a preponderance of the evidence, to have been removed from specific burial sites of Native American individuals.

• There is a relationship of shared group identity that can be reasonably traced between the cultural items and the Stockbridge Munsee Community, Wisconsin.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 9, 2023. If competing requests for repatriation are received, the NYSM must determine the most appropriate requestor prior to repatriation. Requests for joint repatriation of the cultural items are considered a single request and not competing requests. The NYSM is responsible for sending a copy of this notice to the Indian Tribe identified in this notice.

Authority: Native American Graves Protection and Repatriation Act, 25 U.S.C. 3003, and the implementing regulations, 43 CFR 10.8, 10.10, and 10.14.

Dated: November 30, 2022.
Melanie O'Brien,
Manager, National NAGPRA Program.

[FR Doc. 2022-26789 Filed 12-8-22; 8:45 am]

BILLING CODE 4312-52-P